DEPARTMENT OF THE INTERIOR

Fish and Wildlife Service

50 CFR Part 32

[Docket No. FWS-HQ-NWRS-2013-0074; FXRS12650900000-134-FF09R20000]

RIN 1018-AZ87

2013-2014 Refuge-Specific Hunting and Sport Fishing Regulations; Correction

AGENCY: Fish and Wildlife Service, Interior.

ACTION: Correcting amendments.

SUMMARY: We, the U.S. Fish and Wildlife Service, published a final rule in the Federal Register on March 17, 2014, to amend the refuge-specific regulations for certain refuges that pertain to migratory game bird hunting, upland game hunting, big game hunting, and sport fishing for the 2013-2014 season. Inadvertently, we made two technical errors in our regulatory text for Arapaho National Wildlife Refuge in Colorado. This action makes the necessary corrections to the regulations for that refuge.

DATES: This correction is effective April 18, 2014.

FOR FURTHER INFORMATION CONTACT: Brian Salem, (703) 358-2397.

SUPPLEMENTARY INFORMATION: In a final rule that published March 17, 2014 (79 FR 14809), we amended the refuge-specific regulations for certain refuges that pertain to migratory game bird hunting, upland game hunting, big game hunting, and sport fishing for the 2013-2014 season. The Arapaho National Wildlife Refuge (NWR) in Colorado is one of the refuges for which we published amended regulations. In the final rule, we inadvertently required that hunters may only use shotguns as the legal method of take for migratory game birds and upland game on Arapaho NWR. This requirement is inconsistent with Colorado State regulations, which allow take by both shotgun and falconry. Therefore, we are correcting the regulations for Arapaho NWR to provide that take of migratory game birds and upland game must comply with State regulations.

List of Subjects in 50 CFR Part 32

Fishing, Hunting, Reporting and recordkeeping requirements, Wildlife, Wildlife refuges.

Regulation Promulgation

For the reasons set forth in the preamble, we amend title 50, chapter I, subchapter C of the Code of Federal Regulations as follows:

PART 32—[AMENDED]

1. The authority citation for part 32 continues to read as follows:

Authority: 5 U.S.C. 301; 16 U.S.C. 460k, 664, 668dd-668ee, and 715i.

2. Amend § 32.25 by revising paragraphs A.6 and B.4 under Arapaho National Wildlife Refuge to read as follows:

§ 32.25 Colorado.

* * * * *

Arapaho National Wildlife Refuge

A. * * *

6. Method of take for migratory game birds must comply with State regulations.

* * * * *

B. * * *

4. Method of take for upland game must comply with State regulations.

* * * * *

Dated: April 14, 2014.
Tina A. Campbell,
Chief, Division of Policy and Directives Management.

[FR Doc. 2014-08813 Filed 4-17-14; 8:45 am]

BILLING CODE 4310-55-P